DEPARTMENT OF DEFENSE

Office of the Secretary

Defense Business Board (DBB)

AGENCY: Department of Defense.

ACTION: Notice of meeting.

SUMMARY: Under the provisions of the Federal Advisory Committee Act of 1972 (5 U.S.C., Appendix, as amended), the Government in the Sunshine Act of 1976 (5 U.S.C. 552b, as amended), and 41 CFR 102-3.150, the Department of Defense announces the following Federal advisory committee meeting of the Defense Business Board (DBB).

DATES: The public meeting of the Board will be held on Thursday, January 22, 2009, beginning at 11:30 a.m. and ending at 12 p.m.

ADDRESSES: Pentagon, Room 3E863, Washington, DC (escort required, see below).

FOR FURTHER INFORMATION CONTACT: The Board's Designated Federal Officer (DFO) is Phyllis Ferguson, Defense Business Board, 1155 Defense Pentagon, Room 3C288, Washington, DC 20301-1155, Phyllis.ferguson@osd.mil, (703) 695-7563. For meeting information please contact Debora Duffy, Defense Business Board, 1155 Defense Pentagon, Room 3C288, Washington, DC 20301-1155, Debora.duffy@osd.mil, (703) 697-2168.

SUPPLEMENTARY INFORMATION:

(a) Background

The mission of the DBB is to advise the Secretary of Defense on effective strategies for implementation of best business practices of interest to the Department of Defense.

(b) Availability of Materials for the Meeting

A copy of the draft agenda for the January 22, 2009, meeting may be obtained from the Board's Web site at http://www.defenselink.dod/dbb under “Meeting Materials.”

(c) Public's Accessibility to the Meeting

Pursuant to 5 U.S.C. 552b and 41 CFR 102-3.140 through 102-3.165, and the availability of space, this meeting is open to the public. Seating is on a first-come basis. Members of the public who wish to attend the meeting must contact Ms. Duffy at the number listed in this FR Notice no later than noon on Thursday, January 15th to arrange a Pentagon escort. Public attendees are required to arrive at the Pentagon Metro Entrance by 11 a.m. and complete security screening by 11:15 a.m. Security screening requires two forms of identification: (1) A government-issued photo I.D., and (2) any type of secondary I.D. which verifies the individual's name (i.e. debit card, credit card, work badge, social security card).

Special Accommodations: Individuals requiring special accommodations to access the public meeting should contact Ms. Duffy at least five business days prior to the meeting so that appropriate arrangements can be made.

(d) Procedures for Providing Public Comments

Pursuant to 41 CFR 102-3.105(j) and 102-3.140, and section 10(a)(3) of the Federal Advisory Committee Act of 1972, the public or interested organizations may submit written comments to the Board about its mission and topics pertaining to this public session.

Written comments are accepted until the date of the meeting; however, written comments should be received by the DFO at least five business days prior to the meeting date so that the comments may be made available to the Board for their consideration prior to the meeting. Written comments should be submitted via e-mail to the address for the DFO given in this notice in the following formats (Adobe Acrobat, WordPerfect, or Word format). Please note: Since the Board operates under the provisions of the Federal Advisory Committee Act, as amended, all public presentations will be treated as public documents and will be made available for public inspection, up to and including being posted on the Board's Web site.

Dated: December 30, 2008.
Patricia Toppings,
OSD Federal Register Liaison Officer, Department of Defense.

[FR Doc. E9-38 Filed 1-6-09; 8:45 am]

BILLING CODE 5001-06-P